DEPARTMENT OF DEFENSE

Department of the Army; Corps of Engineers

Intent to Prepare a Draft Environmental Impact Statement for a Proposed Mill Creek Watershed Plan Including Potential Flood Damage Reduction Measures and Ecosystem Restoration, Davidson County, TN

Correction

In notice document 03-29418 beginning on page 66082 in the issue of Tuesday, November 25, 2003, make the following correction:

On page 66082, in the third column, in the DATES section, in the fourth line, “January 1, 2004” should read “January 15, 2004.”

[FR Doc. C3-29418 Filed 12-2-03; 8:45 am]

BILLING CODE 1505-01-D

DEPARTMENT OF HEALTH AND HUMAN SERVICES

National Institutes of Health

Government-Owned Inventions; Availability for Licensing

Correction

In notice document 03-29492 appearing on page 66466 in the issue of Wednesday, November 26, 2003, make the following corrections:

1. In the second column, under Degradation and Transcriptional Inhibition of HIF-2alpha Protein by 17-AAG, in the fourth paragraph, in the fifth line, “factor-2a” should read “factor-2α”.

2. In the same column, under the same heading, in the same paragraph, the sixth line should read “(HIF-2α). HIF-2α is thought to play an”.

3. In the same column, under the same heading, in the same paragraph, in the 13th line, “HIF-2a” should read “HIF-2α.”

4. In the same column, under the same heading, in the same paragraph, in the 16th line, “HIF-2a” should read “HIF-2α.”

5. In the same column, under the same heading, in the same paragraph, in the 22nd line, “HIF-2a” should read “HIF-2α.”

[FR Doc. C3-29492 Filed 12-2-03; 8:45 am]

BILLING CODE 1505-01-D